DEPARTMENT OF JUSTICE

[OMB Number 1140-0070]

Agency Information Collection Activities; Proposed eCollection eComments Requested; Application for Explosives License or Permit

AGENCY: Bureau of Alcohol, Tobacco, Firearms and Explosives, Department of Justice.

ACTION: 60-Day notice.

SUMMARY: The Department of Justice (DOJ), Bureau of Alcohol, Tobacco, Firearms and Explosives (ATF), will submit the following information collection request to the Office of Management and Budget (OMB) for review and approval in accordance with the Paperwork Reduction Act of 1995. The proposed information collection is published to obtain comments from the public and affected agencies.

DATES: Comments are encouraged and will be accepted for 60 days until June 2, 2014.

FOR FURTHER INFORMATION CONTACT: If you have additional comments especially on the estimated public burden or associated response time, suggestions, or need a copy of the proposed information collection instrument with instructions or additional information, please contact Christopher R. Reeves, Federal Explosives Licensing Center, Bureau of Alcohol, Tobacco, Firearms and Explosives, 244 Needy Road, Martinsburg, WV 25405, Telephone 1-877-283-3352.

SUPPLEMENTARY INFORMATION: This process is conducted in accordance with 5 CFR 1320.10. Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Evaluate whether and if so how the quality, utility, and clarity of the information to be collected can be enhanced; and

• Minimize the burden of the collection of information on those who are to respond, including through the use of appropriate automated, electronic, mechanical, or other technological collection techniques or other forms of information technology, e.g., permitting electronic submission of responses.

Overview of This Information Collection

1. Type of Information Collection: Extension without change of an existing collection.

2. The Title of the Form/Collection: Application for Explosives License or Permit.

3. The agency form number, if any, and the applicable component of the Department sponsoring the collection:

Form number: ATF Form 5400.13/5400.16.

Component: Bureau of Alcohol, Tobacco, Firearms and Explosives, U.S. Department of Justice.

4. Affected public who will be asked or required to respond, as well as a brief abstract:

Primary: Business or other for-profit.

Other: Individual or households.

Abstract: All persons intending to engage in the business of manufacturing, dealing, importing or using explosives materials must submit an ATF Form 5400.13/5400.16 Application for Explosives License or Permit to the Department of Justice (DOJ), Bureau of Alcohol, Tobacco, Firearms and Explosives (ATF). The explosives application will be processed by the ATF Federal Explosives Licensing Center (FELC), and upon approval, the applicant shall receive their explosives license or permit within a ninety-day timeframe.

5. An estimate of the total number of respondents and the amount of time estimated for an average respondent to respond: An estimated 10,200 respondents will take 1 hour and 30 minutes to complete the form.

6. An estimate of the total public burden (in hours) associated with the collection: The estimated annual public burden associated with this collection is 15,300 hours.

If additional information is required contact: Jerri Murray, Department Clearance Officer, United States Department of Justice, Justice Management Division, Policy and Planning Staff, Two Constitution Square, 145 N Street NE., 3E.405B, Washington, DC 20530.

Dated: March 31, 2014.
Jerri Murray,
Department Clearance Officer for PRA, U.S. Department of Justice.

[FR Doc. 2014-07453 Filed 4-2-14; 8:45 am]

BILLING CODE 4410-FY-P